SECURITIES AND EXCHANGE COMMISSION

[File No. 500-1]

Order of Suspension of Trading

September 26, 2016.

In the Matter of A.A. Importing Co., Inc.; ACM Corporation; Alleghany Pharmacal Corp.; Amiworld, Inc.; BTHC XIV, Inc.; Buccaneer Energy Corp.; CECO Filters, Inc.; Child World, Inc.; Comp Services Inc.; Connohio, Inc.; Dadongnan Holding., Co.; Day & Meyer, Murray & Young Corp.; DEI Holdings, Inc.; Diversified Thermal Solutions, Inc.; Global Industries Corp.; Havaya Corp.; Helpeo, Inc.; Hua Ye Gas Group Holding Co.; International Capital & Technology Corp.; Kinemotive Corp.; Old Fashion Foods, Inc.; Peptide Technologies, Inc.; PTI Holding, Inc.; Rancho Santa Monica Developments, Inc.; Restaurant Acquisition Partners, Inc.; Richland Resources Corp.; SMSA Humble Acquisition Corp.; SMSA Treemont Acquisition Corp.; Stevens International, Inc.; Sur Ventures, Inc.; USA InvestCo Holdings, Inc.; Whole Gold International Group Holding; Company; Winter Sports, Inc.; Wintex Mill, Inc.; Wyndmoor Industries, Inc.; Ya Zhu Silk, Inc.

It appears to the Securities and Exchange Commission that there is a lack of current and accurate public information concerning the securities of each of the issuers detailed below because questions have arisen as to their operating status, if any. Each of the issuers below is quoted on OTC Link operated by OTC Markets Group, Inc. The staff of the Securities and Exchange Commission has independently endeavored to determine whether any of the issuers below are operating. Each of the issuers below either confirmed they were now private companies or no longer in operation, or failed to respond to the staff's inquiry about their operating status, did not have an operational address, or failed to provide their registered agent with an operational address. The staff of the Securities and Exchange Commission also determined that none of the issuers below has filed any information with OTC Markets Group, Inc. or the Securities and Exchange Commission for the past two years.

Issuer and ticker | Information regarding operating status *
1. A.A. Importing Co., Inc. (ANTQ) | 3
2. ACM Corporation (ACMA) (CIK No. 0001493265) | 1
3. Alleghany Pharmacal Corp. (ALGY) | 2
4. Amiworld, Inc. (AMWO) (CIK No. 0001401273) | 1
5. BTHC XIV, Inc. (BXII) (CIK No. 0001405646) | 1
6. Buccaneer Energy Corp. (BCCR) | 1
7. CECO Filters, Inc. (CECF) (CIK No. 0000811037) | 2
8. Child World, Inc. (CHWO) | 1
9. Comp Services Inc. (CMPS) (CIK No. 0001537689) | 1
10. Connohio, Inc. (CNNO) | 3
11. Dadongnan Holding., Co. (DGDH) | 1
12. Day & Meyer, Murray & Young Corp. (DMMY) | 2
13. DEI Holdings, Inc. (DEIX) (CIK No. 0001323630) | 2
14. Diversified Thermal Solutions, Inc. (DVTS) (CIK No. 0001096835) | 1
15. Global Industries Corp. (GBLS) (CIK No. 0001415734) | 1
16. Havaya Corp. (HVAY) (CIK No. 0001483230) | 1
17. Helpeo, Inc. (HLPN) (CIK No. 0001484055) | 1
18. Hua Ye Gas Group Holding Co. (HUAZ) | 1
19. International Capital & Technology Corp. (ICTC) (CIK No. 0000215429) | 1
20. Kinemotive Corp. (KINO) (CIK No. 0000055830) | 2
21. Old Fashion Foods, Inc. (OFFI) | 2
22. Peptide Technologies, Inc. (PEPT) (CIK No. 0001357878) | 3
23. PTI Holding, Inc. (PTIH) (CIK No. 0000885239) | 1
24. Rancho Santa Monica Developments, Inc. (RSDV) (CIK No. 0001313605) | 3
25. Restaurant Acquisition Partners, Inc. (RAQP) (CIK No. 0001340995) | 1
26. Richland Resources Corp. (RRCH) (CIK No. 0001425897) | 1
27. SMSA Humble Acquisition Corp. (SMHQ) (CIK No. 0001495900) | 3
28. SMSA Treemont Acquisition Corp. (SAQU) (CIK No. 0001495898) | 1
29. Stevens International, Inc. (SVEIB) (CIK No. 0000817644) | 3
30. Sur Ventures, Inc. (SVTY) (CIK No. 0001482179) | 1
31. USA InvestCo Holdings, Inc. (USAV) (CIK No. 0001512983) | 3
32. Whole Gold International Group Holding Company (WGLD) | 1
33. Winter Sports, Inc. (WSPS) (CIK No. 0000803003) | 2
34. Wintex Mill, Inc. (WTXM) | 1
35. Wyndmoor Industries, Inc. (WYDM) | 2
36. Ya Zhu Silk, Inc. (YZSK) (CIK No. 0001448962) | 1
* Below are explanations for each of the codes used in the above table:
1 = The staff of the Securities and Exchange Commission attempted to contact the issuer and either the staff did not receive a response to its letter, the letters were returned as undeliverable, or the registered agent responded that they had no forwarding address for the issuer.
2 = The staff of the Securities and Exchange Commission was able to contact the issuer, which informed the staff that it was now a private company.
3 = The staff of the Securities and Exchange Commission was able to contact the issuer, which informed the staff that it was no longer operating.

The Commission is of the opinion that the public interest and the protection of investors require a suspension of trading in the securities of the above-listed companies.

Therefore, it is Ordered, pursuant to Section 12(k) of the Securities Exchange Act of 1934, that trading in the securities of the above-listed companies is suspended for the period from 9:30 a.m. EDT on September 26, 2016, through 11:59 p.m. EDT on October 7, 2016.

By the Commission.
Brent J. Fields,
Secretary.

[FR Doc. 2016-23561 Filed 9-26-16; 4:15 pm]

BILLING CODE 8011-01-P